SECURITIES AND EXCHANGE COMMISSION

[File No. 500-1]

In the Matter of EQCO2, Inc., Hondo Minerals Corp., and Liberty Gold Corp., Order of Suspension of Trading

May 4, 2016.

It appears to the Securities and Exchange Commission that there is a lack of current and accurate information concerning the securities of EQCO2, Inc. (CIK No. 1371487), a Nevada corporation with its principal place of business listed as Las Vegas, Nevada, with stock quoted on OTC Link (previously, “Pink Sheets”) operated by OTC Markets Group, Inc. (“OTC Link”) under the ticker symbol CLNO, because it has not filed any periodic reports since the period ended July 31, 2013. On September 16, 2014, a delinquency letter was sent by the Division of Corporation Finance to EQCO2, Inc. requesting compliance with its periodic filing obligations, and EQCO2, Inc. received the delinquency letter on September 19, 2014, but failed to cure its delinquencies.

It appears to the Securities and Exchange Commission that there is a lack of current and accurate information concerning the securities of Hondo Minerals Corp. (CIK No. 1471136), a defaulted Nevada corporation with its principal place of business listed as Chloride, Arizona with stock quoted on OTC Link under the ticker symbol HMNC, because it has not filed any periodic reports since the period ended April 30, 2013. On August 19, 2015, a delinquency letter was sent by the Division of Corporation Finance to Hondo Minerals Corp. requesting compliance with its periodic filing obligations, but Hondo Minerals Corp. did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of Liberty Gold Corp. (CIK No. 1459697), a void Delaware corporation with its principal place of business listed as Phoenix, Arizona, with stock quoted on OTC Link under the ticker symbol LBGO, because it has not filed any periodic reports since the period ended June 30, 2013. On October 17, 2014, a delinquency letter was sent by the Division of Corporation Finance to Liberty Gold Corp. requesting compliance with its periodic filing obligations, but Liberty Gold Corp. did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 4, 2016, through 11:59 p.m. EDT on May 17, 2016.

By the Commission.
Jill M. Peterson,
Assistant Secretary.

[FR Doc. 2016-10790 Filed 5-4-16; 11:15 am]

BILLING CODE 8011-01-P